DEPARTMENT OF ENERGY

Federal Energy Regulatory Commission

[Docket No. EG01-173-000, et al.]

CMS Operating Company, et al.; Electric Rate and Corporate Regulation Filings

June 1, 2001.

Take notice that the following filings have been made with the Commission:

1. CMS Generation Operating Company

[Docket No. EG01-173-000]

Take notice that on May 25, 2001, CMS Generation Operating Company, 330 Town Center Drive, Suite 1000, Dearborn, Michigan 48126, filed with the Federal Energy Regulatory Commission (Commission), an amendment to its application for determination of exempt wholesale generator status pursuant to Part 365 of the Commission's regulations.

CMS Generation Operating Company is a wholly-owned subsidiary of CMS Generation Co., a Michigan corporation, which is a wholly-owned indirect subsidiary of CMS Energy Corporation, also a Michigan corporation. CMS Generation Operating Company will operate, under an operations and maintenance agreement with the owner, a waste tire-burning electricity generating facility located in Sterling, Connecticut with a net electrical generating capacity of approximately 26 MW.

Comment date: June 22, 2001, in accordance with Standard Paragraph E at the end of this notice. The Commission will limit its consideration of comments to those that concern the adequacy or accuracy of the application.

2. GridFlorida LLC, Florida Power & Light Co., Florida Power Corporation, Tampa Electric Co.

[Docket No. RT01-67-003]

Take notice that on May 29, 2001, Florida Power & Light Company, Florida Power Corporation, and Tampa Electric Company tendered for filing a Compliance Filing to the Commission's Order Granting Provisional RTO Status, GridFlorida LLC, 94 FERC ¶ 61,363 (2001). Take further notice that on May 15, 2001, these same parties filed a status report as required by the order.

Comment date: July 2, 2001, in accordance with Standard Paragraph E at the end of this notice.

3. Cleco Power LLC

[Docket Nos. ER01-1099-002 and ER01-2147-000]

Take notice that on May 29, 2001, Cleco Power LLC, tendered for filing a Notice of Cancellation pursuant to 18 CFR 35.15, effective May 29, 2001, canceling Cleco Utility Group Inc.'s (Cleco Utility) Market-Based Rates Tariff and all related service agreements and its Open Access Transmission Tariff (OATT) and all related service agreements. Cleco Power LLC is simultaneously filing essentially the same rate schedules in the name of Cleco Power LLC.

Effective December 31, 2000, Cleco Utility Group Inc. was converted from a corporate form to a limited liability company form. The conversion was effectuated through a merger with an entity formed solely for purposes of the conversion namely, Cleco Power LLC, with Cleco Power LLC as the surviving entity. Consequently, all rate schedules of Cleco Utility Group Inc. will be canceled and refiled in the name of Cleco Power LLC by June 25, 2001, pursuant to Order 614 and the Commission's order dated March 28, 2001, in the captioned proceedings.

At this time, only the Market-Based Rates Tariff and all related service agreements and the OATT and all related service agreements are being canceled and refiled. All other Cleco Utility rate schedules will be canceled and refiled by Cleco Power LLC before the June 25, 2001 deadline.

Take notice that the following Cleco Utility service agreements under its OATT are being canceled and are not being refiled as Cleco Power LLC rate schedules because the customer no longer takes service under these rate schedules:

T1 S3

T1 S8

T1 S37

1R1 S38 (expired)

1R1 S43

Notice of the proposed cancellations have been served upon all customers under Cleco Utility Group Inc.'s Market-Based Rates Tariff and OATT.

Take notice that on May 29, 2001, Cleco Power LLC filed Non-Firm and Short-Term Firm Point-to-Point Transmission Service Agreements under its OATT with Axia Energy, L.P. and Calpine Energy, L.P.

Comment date: June 19, 2001, in accordance with Standard Paragraph E at the end of this notice.

4. Walton Electric Membership Corporation

[Docket No. ER01-1400-001]

Take notice that on May 24, 2001, Walton Electric Membership Corporation tendered for filing its compliance filing as required by the Commission in Walton Electric Membership Corporation, 95 FERC ¶61,106 (2001).

Comment date: June 14, 2001, in accordance with Standard Paragraph E at the end of this notice.

5. FirstEnergy Operating Companies

[Docket No. ER01-1403-001]

Take notice that on May 29, 2001, The Cleveland Electric Illuminating Company, Ohio Edison Company, Pennsylvania Power Company and The Toledo Edison Company (collectively, the FirstEnergy Operating Companies) tendered for filing their FERC Electric Tariff, First Revised Volume No. 2. The FirstEnergy Operating Companies state that this tariff, which supersedes their existing Market-Based Rate Power Sales Tariff for Wholesale Sales of Electric Capacity and Energy, incorporates provisions relating to the sale of Market Support Generation and contains all of the tariff and page designations contemplated by FERC Order No. 614.

The tariff was submitted in compliance with the Order Conditionally Accepting Filing Without Suspension or Hearing and Granting Waiver, which was issued in this proceeding on April 26, 2001.

Comment date: June 19, 2001, in accordance with Standard Paragraph E at the end of this notice.

6. Newington Energy, L.L.C.

[Docket No. ER01-1526-001]

Take notice that on May 24, 2001, Newington Energy, L.L.C. (Newington) tendered for filing an amendment to its application for approval of Rate Schedule FERC No. 1 for the wholesale sale of electric energy, capacity and ancillary services at market-based rates.

Comment date: June 14, 2001, in accordance with Standard Paragraph E at the end of this notice.

7. New England Power Pool

[Docket No. ER01-2140-000]

Take notice that on May 25, 2001, the New England Power Pool (NEPOOL) Participants Committee tendered for filing the Seventy-Fourth Agreement Amending the New England Power Pool Agreement (Seventy-Fourth Agreement) which proposes conforming changes to the Restated NEPOOL Agreement to reflect an accelerated process for appeals under the NEPOOL Review Board's Rules of Procedure and to somewhat relax standards for Review Board member ownership of Participant securities and relationships with market participants and their affiliates. A June 1, 2001 effective date has been requested.

The NEPOOL Participants Committee states that copies of these materials were sent to the NEPOOL Participants and the New England state governors and regulatory commissions.

Comment date: June 15, 2001, in accordance with Standard Paragraph E at the end of this notice.

8. Riverside Canal Power Company

[Docket No. ER01-2141-000]

Take notice that on May 24, 2001, Riverside Canal Power Company (Riverside) tendered for filing amendments to Riverside's electric rate schedule No. 1 to reflect its pending affiliation with AES Corp. and its franchised public utility subsidiaries. Riverside requests waiver of any notice requirements to the extent required.

Comment date: June 14, 2001, in accordance with Standard Paragraph E at the end of this notice.

9. Potomac Power Resources, Inc.

[Docket No. ER01-2142-000]

Take notice that on May 25, 2001, Potomac Power Resources, Inc. (PPR) tendered for filing a service agreement establishing Pepco Energy Services, Inc. (PES) as a customer under PPR's Rate Schedule No. 1. PPR requests an effective date of January 1, 2001. PPR also commits to the payment of interest to PES calculated in accordance with Section 35.19 of the Commission's Rules and Regulations from the date of any payments made by PES to PPR pursuant to the Service Agreement prior to sixty days following the making of this filing, such interest to be calculated from the dates of such payments through the sixtieth day following the making of this filing.

PPR states that a copy of the filing was served on PES.

Comment date: June 15, 2001, in accordance with Standard Paragraph E at the end of this notice.

10. Tucson Electric Power Company

[Docket No. ER01-2143-000]

Take notice that on May 25, 2001, Tucson Electric Power Company tendered for filing one (1) Umbrella Service Agreement (for short-term firm service) and one (1) Service Agreement (for non-firm service) pursuant to Part II of Tucson's Open Access Transmission Tariff, which was filed in Docket No. ER01-208-000.

The details of the service agreements are as follows:

1. Umbrella Agreement for Short-Term Firm Point-to-Point Transmission Service dated as of April 11, 2001 by and between Tucson Electric Power Company and Morgan Stanley Capital Group Inc.—FERC Electric Tariff Vol. No. 2, Service Agreement No. 161. No service has commenced at this time.

2. Form of Service Agreement for Non-Firm Point-to-Point Transmission Service dated as of April 11, 2001 by and between Tucson Electric Power Company and Morgan Stanley Capital Group Inc.—FERC Electric Tariff Vol. No. 2, Service Agreement No. 162. No service has commenced at this time.

Comment date: June 15, 2001, in accordance with Standard Paragraph E at the end of this notice.

11. New England Power Pool

[Docket No. ER01-2144-000]

Take notice that on May 25, 2001, the New England Power Pool (NEPOOL) Participants Committee, tendered for filing changes to Market Rule & Procedure 17 (Market Rule 17), entitled Market Monitoring, Reporting and Market Power Mitigation. Market Rule 17 has been revised to reflect the implementation of three-part bidding and Net Commitment Period Compensation (NCPC) in New England.

NEPOOL has requested a July 1, 2001 effective date for the proposed changes to Market Rule 17, simultaneous with the implementation of three-part bidding and NCPC.

The NEPOOL Participants Committee states that copies of these materials were sent to the NEPOOL Participants and the New England state governors and regulatory commissions.

Comment date: June 15, 2001, in accordance with Standard Paragraph E at the end of this notice.

12. The Dayton Power and Light Company

[Docket No. ER01-2145-000]

Take notice that on May 25, 2001, The Dayton Power and Light Company (Dayton) tendered for filing service agreements establishing Calpine Energy Services, LP, Axia Energy, LP, Exelon Generation Company, LLC as customers under the terms of Dayton's Open Access Transmission Tariff.

Dayton requests an effective date of one day subsequent to this filing for the service agreements. Accordingly, Dayton requests waiver of the Commission's notice requirements. Copies of this filing were served upon Calpine Energy Services, LP, Axia Energy, LP, Exelon Generation Company, LLC and the Public Utilities Commission of Ohio.

Comment date: June 15, 2001, in accordance with Standard Paragraph E at the end of this notice.

13. American Electric Power Service Corporation

[Docket No. ER01-2146-000]

Take notice that on May 24, 2001, the American Electric Power Service Corporation (AEPSC) tendered for filing eight service agreements with Aquila Energy Marketing Corporation, City of Cleveland, DTE Energy Trading, Inc., El Paso Merchant Energy, LP, MEICO, Inc. and Vernon Utilities Department for transactions exceeding one year in length by the AEP Companies under the Wholesale Market Tariff of the AEP Operating Companies (Power Sales Tariff). The Power Sales Tariff was accepted for filing effective October 10, 1997 and has been designated AEP Operating Companies' FERC Electric Tariff Original Volume No. 5 (Wholesale Tariff of the AEP Operating Companies) and FERC Electric Tariff Original Volume No. 8, Effective January 8, 1998 in Docket ER 98-542-000 (Market-Based Rate Power Sales Tariff of the CSW Operating Companies).

AEPSC respectfully requests waiver of notice to permit these service agreements to be made effective on or prior to May 1, 2001.

A copy of the filing was served upon the Parties and the State Utility Regulatory Commissions of Arkansas, Indiana, Kentucky, Louisiana, Michigan, Ohio, Oklahoma, Tennessee, Texas, Virginia and West Virginia.

Comment date: June 14, 2001, in accordance with Standard Paragraph E at the end of this notice.

14. Commonwealth Edison Company

[Docket No. ER01-2148-000]

Take notice that on May 29, 2001, Commonwealth Edison Company (ComEd) tendered for filing an Interconnection Agreement with Calumet Energy Team LLC (Calumet). ComEd requests an effective date of May 30, 2001 and accordingly seeks waiver of the Commission's notice requirements.

Copies of the filing were served on Calumet and the Illinois Commerce Commission.

Comment date: June 19, 2001, in accordance with Standard Paragraph E at the end of this notice.

15. PacifiCorp

[Docket Nos. ER01-1353-000, ER01-1354-000, and ER01-1355-000]

Take notice that on May 29, 2001, PacifiCorp tendered for filing in accordance with 18 CFR 35 of the Commission's Rules and Regulations and the Commission Order dated April 26, 2001 under the above stated FERC Docket Nos. a report on the status of the negotiations required pursuant to the Commission's Order.

Copies of this filing were supplied to the Washington Utilities and Transportation Commission and the Public Utility Commission of Oregon.

Comment date: June 19, 2001, in accordance with Standard Paragraph E at the end of this notice.

16. Dominion Retail, Inc.

[Docket No. ER01-360-001]

Take notice that on May 25, 2001, Dominion Retail, Inc. in compliance with the Federal Energy Regulatory Commission's (Commission) Letter Order in Docket No. ER01-360-000, (Dominion Retail) tendered for filing its market-based rate schedule with the designations as required by FERC Order No. 614.

Comment date: June 15, 2001, in accordance with Standard Paragraph E at the end of this notice.

17. Maine Public Service Company

[Docket No. ER95-851-004]

Take notice that on May 29, 2001, Maine Public Service Company (MPS) tendered for filing an updated market analysis as required by the Commission's May 31, 1995 order in Docket No. ER95-851-000 granting MPS market-based rate authority.

Comment date: June 19, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-14547 Filed 6-8-01; 8:45 am]

BILLING CODE 6717-01-P